SMALL BUSINESS ADMINISTRATION

Military Reservist Economic Injury Disaster Loans Interest Rate for Fourth Quarter FY 2014

In accordance with the Code of Federal Regulations 13—Business Credit and Assistance § 123.512, the following interest rate is effective for Military Reservist Economic Injury Disaster Loans approved on or after August 1, 2014.

Military Reservist Loan Program—4.000%

Dated: July 21, 2014.
James E. Rivera,
Associate Administrator For Disaster Assistance.

[FR Doc. 2014-17769 Filed 7-28-14; 8:45 am]

BILLING CODE P